DEPARTMENT OF THE INTERIOR

Bureau of Land Management

[LLCAC01000 L16600000.XZ0000 16XL1109AF LXSIOVHD0000]

Notice of Public Meeting of the Central California Resource Advisory Council

AGENCY: Bureau of Land Management, Interior.

ACTION: Notice of public meeting.

SUMMARY: In accordance with the Federal Land Policy and Management Act and the Federal Advisory Committee Act of 1972, the U.S. Department of the Interior, Bureau of Land Management (BLM) Central California Resource Advisory Council (RAC) will meet as indicated below.

DATES: A business meeting will be held Friday, March 18, 2016, at the Federal Building public meeting room, 2800 Cottage Way, Sacramento, CA, from 8 a.m. to 3 p.m. Time for public comment is reserved from 9 a.m. to 10 a.m.

FOR FURTHER INFORMATION CONTACT: BLM Central California District Manager Este Stifel, (916) 978-4626; or BLM Public Affairs Officer David Christy, (916) 941-3146.

SUPPLEMENTARY INFORMATION: The 12-member council advises the Secretary of the Interior, through the BLM, on a variety of planning and management issues associated with public land management in the Central California District, which includes the Bishop, Bakersfield, Hollister, Ukiah and Mother Lode Field Offices.

The meeting will include consideration by the RAC of proposed campground fee increases for the Bishop Field Office. The RAC charter states:

Upon the request of the Designated Federal Official (DFO), the Council may make recommendations regarding a standard amenity recreation fee or an expanded recreation amenity fee, whenever the recommendations related to public concerns in the State or region covered by the council regarding:

(A) The implementation of a standard amenity recreation fee or an expanded amenity recreation fee or the establishment of a specific recreation fee site;

(B) The elimination of a standard amenity recreation fee or an expanded amenity recreation fee; or

(C) The expansion or limitation of the recreation fee program.

The Council may make these recommendations for the BLM when the BLM's amenity recreation fees are at issue and it would facilitate implementation of the REA (Federal Lands Recreation Enhancement Act). With the concurrence of the Forest Service (FS) when their amenity recreation fees are at issue, the Council may also make these recommendations for the BLM and/or FS if that would facilitate the effective implementation of the REA.

The RAC will meet from 8 a.m. to 3 p.m. There will be a presentation on the fee proposal at 8:30 a.m. There will be a time for public comment on that and other issues from 9 a.m. to 10 a.m.

Information on the proposed fee increase is available on the web at http://www.blm.gov/ca/st/en/fo/bishop.html.

Additional ongoing business will be discussed by the council. All meetings are open to the public. Members of the public may present written comments to the council. Each formal council meeting will have time allocated for public comments. Depending on the number of persons wishing to speak, and the time available, the time for individual comments may be limited. The meeting is open to the public. Individuals who plan to attend and need special assistance, such as sign language interpretation and other reasonable accommodations, should contact the BLM as provided above.

Este Stifel,
District Manager.

[FR Doc. 2016-01745 Filed 1-29-16; 8:45 am]

BILLING CODE 4310-40-P